DEPARTMENT OF COMMERCE

International Trade Administration

[A-428-850, A-588-880, A-580-911, A-469-824]

Thermal Paper From Germany, Japan, the Republic of Korea, and Spain: Postponement of Preliminary Determinations in the Less-Than-Fair-Value Investigations

AGENCY: Enforcement and Compliance, International Trade Administration, Department of Commerce.

DATES: Applicable February 25, 2021.

FOR FURTHER INFORMATION CONTACT: David Goldberger at (202) 482-4136 (Germany); Alex Wood at (202) 482-1959 (Japan); Kristen Ju at (202) 482-3699 or Aleksandras Nakutis at (202) 482-3147 (Republic of Korea (Korea)); or Abdul Alnoor at (202) 482-4554 (Spain), AD/CVD Operations, Enforcement and Compliance, International Trade Administration, U.S. Department of Commerce, 1401 Constitution Avenue NW, Washington, DC 20230.

SUPPLEMENTARY INFORMATION:

Background

On October 27, 2020, the Department of Commerce (Commerce) initiated less-than-fair-value (LTFV) investigations of imports of thermal paper from Germany, Japan, Korea, and Spain.¹ Currently, the preliminary determinations are due no later than March 16, 2021.

¹ See Thermal Paper from Germany, Japan, the Republic of Korea, and Spain: Initiation of Less-Than-Fair-Value Investigations, 85 FR 69580 (November 3, 2020).

Postponement of Preliminary Determinations

Section 733(b)(1)(A) of the Tariff Act of 1930, as amended (the Act), requires Commerce to issue the preliminary determination in an LTFV investigation within 140 days after the date on which Commerce initiated the investigation. However, section 733(c)(1)(A) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 4 and 16, 2021, the petitioners ² submitted timely requests that Commerce postpone the preliminary determinations in these LTFV investigations.³ The petitioners requested postponement of the preliminary determinations to: (1) Provide additional time to evaluate, comment on, and/or resolve issues in the questionnaire responses received in these investigations; or (2) in the case of the Spain investigation, to keep the investigation on the same schedule as the Germany, Japan, and Korea investigations.⁴

² The petitioners are Appvion Operations, Inc. and Domtar Corporation.

³ See Petitioners' Letters, “Thermal Paper from Germany: Petitioners' Request for Postponement of the Preliminary Determination,” dated February, 4, 2021; “Thermal Paper from the Republic of Korea: Petitioners' Request for Postponement of the Preliminary Determination,” dated February, 4, 2021; “Thermal Paper from the Republic of Japan: Petitioners' Request for Postponement of the Preliminary Determination,” dated February, 16, 2021; and “Thermal Paper from Spain: Petitioners' Request for Postponement of the Preliminary Determination,” dated February, 16, 2021.

⁴ Id.

For the reasons stated above and because there are no compelling reasons to deny the request, in accordance with section 733(c)(1)(A) of the Act, Commerce is postponing the deadline for the preliminary determinations by 50 days (i.e., 190 days after the date on which these investigations were initiated). As a result, Commerce will issue its preliminary determinations no later than May 5, 2021. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: February 18, 2021.
Christian Marsh,
Acting Assistant Secretary for Enforcement and Compliance.

[FR Doc. 2021-03902 Filed 2-24-21; 8:45 am]

BILLING CODE 3510-DS-P